DEPARTMENT OF LABOR

Advisory Committee on Veterans' Employment, Training and Employer Outreach (ACVETEO): Meeting

AGENCY: Veterans' Employment and Training Service, Labor.

ACTION: Notice of open meeting.

SUMMARY: This notice sets forth the schedule and proposed agenda of a forthcoming meeting of the Advisory Committee on Veterans' Employment, Training and Employer Outreach (ACVETEO). The ACVETEO will discuss Department of Labor's Veterans' Employment and Training Services' (VETS) core programs and new initiatives regarding efforts that assist veterans seeking employment and raise employer awareness as to the advantages of hiring veterans. There will be an opportunity for persons or organizations to address the committee. Any individual or organization that wishes to do so should contact Mr. Gregory Green (202) 693-4734. Time constraints may limit the number of outside participants/presentations. Individuals who will need accommodations for a disability in order to attend the meeting (i.e., interpreting services, assistive listening devices, and/or materials in alternative format) should notify the Advisory Committee no later than Wednesday, January 9, 2013 by contacting Mr. Gregory Green (202) 693-4734. Requests made after this date will be reviewed, but availability of the requested accommodations cannot be guaranteed. The meeting site is accessible to individuals with disabilities. This notice also describes the functions of the Advisory Committee. Notice of this meeting is required under Section 10(a)(2) of the Federal Advisory Committee Act. This document is intended to notify the general public.

Date and Time: Friday, January 25, 2013, beginning at 9:30 a.m. and ending at approximately 4:00 p.m. (E.S.T.).

ADDRESSES: U.S. Department of Labor, 200 Constitution Ave. NW., Room C5521, Washington, DC 20210. ID is required to enter the building.

FOR FURTHER INFORMATION CONTACT: Mr. Angel M. Menendez, Designated Federal Official, Advisory Committee on Veterans' Employment, Training and Employer Outreach, (202) 693-4712, or Mr. Gregory Green, (202) 693-4734.

SUPPLEMENTARY INFORMATION: ACVETEO is a Congressionally mandated advisory committee authorized under Title 38, U.S. Code, Section 4110 and subject to the Federal Advisory Committee Act (FACA), 5 U.S.C. App. 2, as amended. The ACVETEO is responsible for: Assessing employment and training needs of veterans; determining the extent to which the programs and activities of the U.S. Department of Labor meet these needs; assisting to conduct outreach to employers seeking to hire veterans; making recommendations to the Secretary, through the Assistant Secretary of Labor for Veterans' Employment and Training, with respect to outreach activities and employment and training needs of Veterans; and carrying out such other activities necessary to make required reports and recommendations. The ACVETEO meets at least quarterly.

Signed in Washington, DC, this 18th day of December, 2012.
John K. Moran,
Deputy Assistant Secretary, Veterans' Employment and Training Service.

Agenda

Acveteo Meeting

January 25, 2013

9:30 a.m. Welcome and Introduction

Deputy Assistant Secretary (DAS) John K. Moran

10:00 a.m. Administrative Business

Angel M. Menendez, Designated Federal Official (DFO) for ACVETEO

10:15 a.m. DOL-VETS Presentation/Year in Review

Deputy Assistant Secretary (DASVET) John K. Moran

12:00 p.m. Lunch

1:15 p.m. Economic Programs Focused on Veteran Employment

Paul (Bud) Bucha, Committee Chairman and several other members/guest

2:15 p.m. Break

2:30 p.m. Transition Assistance Update

OSD, VA and DOL

3:00 p.m. Public Forum

3:15 p.m. Committee Member Discussion—Way Forward and Homework Assignments

4:00 p.m. Adjourn

[FR Doc. 2012-30879 Filed 12-21-12; 8:45 am]

BILLING CODE 4510-79-P